DEPARTMENT OF STATE

[Public Notice: 11919]

Clean Energy Resources Advisory Committee

ACTION: Announcement of meeting.

SUMMARY: The Department of State will host a virtual, open meeting of the Clean Energy Resources Advisory Committee (CERAC). There will not be an in-person option for this meeting.

DATES: CERAC will meet virtually December 7, 2022 from 11:00 a.m. to 12:30 p.m. (EST).

FOR FURTHER INFORMATION CONTACT: Bureau of Energy Resources, Energy Officer Brian Bedell at (202) 647-7687, or CERAC@state.gov.

SUPPLEMENTARY INFORMATION:

Purpose: This Committee will provide input and advice regarding energy minerals and metals, their supply chains, and end uses. This third meeting will focus on investment needs across clean energy supply chains and strategies to accelerate public and private investment to support supply chain security and diversification.

Participation: Members of the public wishing to participate must RSVP by December 5, 2022 via email to CERAC@state.gov (subject line: RSVP). The Department will provide login information prior to the meeting. Requests for reasonable accommodation should be submitted no later than December 1, 2022. Reasonable accommodation requests received after that date will be considered but may not be possible to fulfill.

Any written comments should be emailed to CERAC@state.gov with “PUBLIC COMMENT” as the subject line at least 48 hours before the start of the meeting. During this meeting, there will not be an option for members of the public to make oral statements.

(Authority: 5 U.S.C. app. 10(a) and 22 U.S.C. 2651a)

Brian Bedell,
Energy Officer, Bureau of Energy Resources, Department of State.

[FR Doc. 2022-25083 Filed 11-17-22; 8:45 am]

BILLING CODE 4710-AE-P